DEPARTMENT OF COMMERCE

National Institute of Standards and Technology

Government Owned Inventions Available for Licensing

AGENCY: National Institute of Standards and Technology, Commerce.

ACTION: Notice of Government owned inventions available for licensing.

SUMMARY: The inventions listed below are owned in whole or in part by the U.S. Government, as represented by the Department of Commerce, and are available for licensing in accordance with 35 U.S.C. 207 and 37 CFR part 404 to achieve expeditious commercialization of results of federally funded research and development.

FOR FURTHER INFORMATION CONTACT: Technical and licensing information on these inventions may be obtained by writing to: National Institute of Standards and Technology, Office of Technology Partnerships, Building 820, Room 213, Gaithersburg, MD 20899; Fax 301-869-2751. Any request for information should include the NIST Docket No. and Title for the relevant invention as indicated below.

SUPPLEMENTARY INFORMATION: NIST may enter into a Cooperative Research and Development Agreement (“CRADA”) with the licensee to perform further research on the inventions for purposes of commercialization. The inventions available for licensing are:

NIST Docket Number: 96-049US.

Title: Power Sensor.

Abstract: A method for forming a single cavity in a substrate, which may extend approximately the length of a device located on top of the substrate, and device produced thereby. The device has a length and a width, and may extend approximately the length of the substrate. After locating the device on the surface of the substrate, a first etchant is applied through openings on the surface of the substrate. Subsequently, a second etchant is applied through the same openings on the surface of the substrate. As a result, a single cavity is formed beneath the surface of the device, suspending the device and minimizing electrical coupling. This invention is jointly owned by the Government and another party. The Government's interest is available for licensing.

NIST Docket Number: 99-007PCT.

Title: Polymer Layered Inorganic Nanocomposites.

Abstract: Polymer layered silicate nanocomposites are novel materials that have improved stiffness, barrier properties, and flammability properties. Although melt intercalation has been shown for some systems this approach has limitations and may not produce the same type of nanocomposites as the in situ polymerization approach. Several examples have shown that the driving force of a polymerization reaction is required to obtain complete dispersion of the silicate in the polymer. This in situ polymerization method has been proven for polyamides, polyesters and epoxies; however, new methods of preparation are needed, especially for non-polar polymers. This demonstrates that novel exfoliated polymer layered silicate nanocomposites can be prepared using metal catalysts, which have been intercalated into layered silicates. This process we define as “in situ transition-metal mediated polymerization.” This invention is available only for non-exclusive licensing.

Dated: November 8, 2000.
Karen H. Brown,
Deputy Director.

[FR Doc. 00-29161 Filed 11-14-00; 8:45 am]

BILLING CODE 3510-13-M